DEPARTMENT OF DEFENSE

Defense Acquisition Regulations System

48 CFR Part 246

Detection and Avoidance of Counterfeit Electronic Parts—Further Implementation

AGENCY: Defense Acquisition Regulations System, Department of Defense (DoD).

ACTION: Notice of meeting.

SUMMARY: DoD is hosting a public meeting to obtain the views of experts and interested parties in Government and the private sector regarding further implementation of the requirement for detection and avoidance of counterfeit electronic parts, as required by a section of the National Defense Authorization Act for Fiscal Year 2012.

DATES: March 27, 2014, from 9:00 a.m. to 12:00 p.m., EDT.

ADDRESSES: The public meeting will be held at General Services Administration (GSA) Regional Office Building (ROB Auditorium) at 301 7th Street SW., Washington, DC 20407 (entrance on D Street).

FOR FURTHER INFORMATION CONTACT: Ms. Amy Williams, DPAP/DARS, at 571-372-6106. Please cite Public Meeting—Detection and Avoidance of Counterfeit Electronic Parts—Further Implementation.

SUPPLEMENTARY INFORMATION: DoD is interested in opening a dialogue with experts and interested parties in Government and the private sector about further implementation of the requirements for detection and avoidance of counterfeit electronic parts in DoD contracts. As partial implementation of the requirements at section 818, entitled “Detection and Avoidance of Counterfeit Electronic Parts,” of the National Defense Authorization Act for Fiscal Year 2012 (Pub. L. 112-81), DoD published a proposed rule in the Federal Register at 78 FR 28780 on May 16, 2013, under DFARS case 2012-D055, Detection and Avoidance of Counterfeit Electronic Parts. DoD also held a public meeting on June 28, 2013, to discuss the proposed rule under DFARS Case 2012-D055. DoD is preparing to publish a final rule under that case.

DoD is now considering further implementation of section 818. DoD is particularly interested in further implementation of the requirements of section 818(c)(3), Trusted Suppliers.

Individuals wishing to attend the public meeting should register by March 20, 2014, to ensure adequate room accommodations and to facilitate entry to the GSA building. Interested parties may register at this Web site, http://www.acq.osd.mil/dpap/dars/counterfeit_electronic_parts.html, by providing the following information:

• (1) Company or organization name.

• (2) Names and email addresses of persons planning to attend.

• Identify if desiring to make a presentation; limit to a 10-minute presentation per company or organization.

One valid government-issued photo identification card will be required in order to enter the building. Attendees are encouraged to arrive at least 30 minutes early to accommodate security procedures.

If you wish to make a presentation, please submit an electronic copy of your presentation to dfars@mail.mil no later than March 24, 2013. When submitting presentations, provide presenter's name, organization affiliation, telephone number, and email address on the cover page. Please submit presentations only and cite “Public Meeting—Detection and Avoidance of Counterfeit Electronic Parts—Further Implementation” in all correspondence related to the public meeting. There will be no transcription at the meeting. The submitted presentations will be the only record of the public meeting.

Special accommodations: The public meeting is physically accessible to people with disabilities. Requests for reasonable accommodations, sign language interpretation or other auxiliary aids should be directed to Amy Williams at 571-372-6106, at least 10 working days prior to the meeting date.

The TTY number for further information is: 1-800-877-8339. When the operator answers the call, let them know the agency is the Department of Defense; the point of contact is Amy Williams at 571-372-6106.

Manuel Quinones,
Editor, Defense Acquisition Regulations System.

[FR Doc. 2014-04414 Filed 2-28-14; 8:45 am]

BILLING CODE 5001-06-P